DEPARTMENT OF TRANSPORTATION

Federal Aviation Administration

RTCA Drone Advisory Committee (DAC) Public Meeting

AGENCY: Federal Aviation Administration (FAA), U.S. Department of Transportation (DOT).

ACTION: RTCA Drone Advisory Committee Public Meeting.

SUMMARY: The FAA is issuing this notice to advise the public of a meeting of RTCA Drone Advisory Committee Public Meeting.

DATES: The meeting will be held January 31, 2017 09:00 a.m.—04:00 p.m. PST.

ADDRESSES: The meeting will be held at: University of Nevada, 1664 N Virginia St., Reno, NV 89557.

FOR FURTHER INFORMATION CONTACT: Al Secen at asecen@rtca.org or 202-330-0647, or The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the RTCA Drone Advisory Committee Public Meeting. The agenda will include the following:

Tuesday, January 31, 2017

• Welcome and Introductions

• Review/Approval of Minutes from September Meeting

• Report out of DAC Subcommittee (SC) Task Group (TG) 1 (Roles and Responsibilities)

• Report out of DAC SC Task Group 2 (Access to Airspace)

• Discussion of Recommendations

○ Task Group 1

○ Task Group 2

• Discussion of DAC SC Task Group 3 Formation (Budget & Cost)

• DAC Develop/Refine Task Statements for Task Groups

• New Assignments/Agenda Topics

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 5, 2017.
Christopher W. Harm,
Unmanned Aircraft Systems Stakeholder and Committee Liaison, AUS-10, Unmanned Aircraft Systems Integration Office, Federal Aviation Administration.

[FR Doc. 2017-00291 Filed 1-9-17; 8:45 am]

BILLING CODE 4910-13-P